DEPARTMENT OF THE INTERIOR

Bureau of Land Management

[CA 169-02-1610-DO]

Carrizo Plain National Monument

AGENCY: Bureau of Land Management; Bakersfield Field Office.

ACTION: Notice of Intent to (1) prepare a Resource Management Plan (RMP) for the Carrizo Plain National Monument, designated January 17, 2001, and (2) amend the Caliente RMP, approved on May 5, 1997. This action will require a single Environmental Assessment (EA). The planning area is located in San Luis Obispo, Santa Barbara, and Kern Counties, in California.

SUMMARY: This document provides notice that the Bureau of Land Management (BLM) intends to prepare an RMP and RMP amendment with an associated EA for the Bakersfield Field Office. This planning activity encompasses approximately 204,000 acres of public land. The plan will fulfill the needs and obligations set forth by the National Environmental Policy Act (NEPA), the Federal Land Policy and Management Act (FLPMA), the monument proclamation, and BLM management policies. The Carrizo Plain National Monument RMP will be created by combining the existing Carrizo Plain Natural Area Management Plan with pertinent decisions within the Caliente RMP, and amending those decisions as needed to bring them into conformance with the monument proclamation. Those decisions within the Caliente RMP that pertain only to Carrizo will then be removed from the Caliente RMP by amendment. Both the Caliente RMP and the Carrizo Plain Natural Area Management Plan were prepared by the BLM in collaboration with a broad cross-section of interested parties. The BLM will again work collaboratively with interested parties to review the management decisions that are best suited to local, regional, and national needs and concerns. The environmental review process includes an evaluation of the pertinent RMP decisions in the context of the needs and interests of the public and protection of the objects of historic and scientific interest specified in the proclamation.

DATES: This notice initiates the planning process. General scoping will last a minimum of 60 days. The Draft Carrizo RMP and Draft Caliente RMP Amendment/EA are expected to be completed in December 2002. A Notice of Availability will be published in the Federal Register, beginning a 60 day public comment period. Public meetings will be held during the 60 day comment period. A decision on the Carrizo Plain National Monument RMP and Caliente RMP Plan Amendment is expected by May 2003.

ADDRESSES: Written comments should be sent to Carrizo Plain National Monument RMP, Bureau of Land Management, Bakersfield Field Office, 3801 Pegasus Drive, Bakersfield, California 93308; Fax 661 391-6040. Documents pertinent to this proposal may be examined at the Bakersfield Field Office located in Bakersfield, California. Comments, including names and street addresses of respondents, will be available for public review at the Bakersfield Field Office during regular business hours 7:30 a.m. to 4:15 p.m., Monday through Friday, except holidays, and may be published as part of the EA. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION: For further information and/or to have your name added to our mailing list, contact Chris Ryan, Telephone 661 391-6107.

SUPPLEMENTARY INFORMATION: The Carrizo Plain National Monument is currently managed under the recently completed Carrizo Plain Natural Area Management Plan and the Caliente RMP. Together, these existing plans provide a comprehensive management program which is believed to be appropriate for the new monument. While BLM will review this existing management program in light of current issues associated with the new monument, a full scale planning effort is not considered necessary. However, BLM will evaluate any public comments as to the adequacy of the existing management program prior to making a final determination on the scope of the monument plan and related NEPA document. (1) The new Carrizo RMP will be comprised of those goals, decisions, and allocations within the Caliente RMP that pertain to the Carrizo Plain National Monument, combined with the primary goals and decisions identified within the Carrizo Plain Natural Area Management Plan. Activity plan direction from the Carrizo Plain Natural Area Management Plan will be carried forward and appended to the Carrizo Plain National Monument RMP. Modification of existing land use planning decisions is not anticipated except where necessary to conform to the monument proclamation. (2) The Caliente RMP will be amended by removing those decisions and allocations that pertain only to public lands within the Carrizo Plain National Monument, and clarifying that the remaining direction excludes the monument from that point forward. This will eliminate any overlap and potential conflict between the two land use plans.

Public Participation: Public meetings will be held during the EA public comment period. In order to ensure local community participation and input, public meeting locations will be rotated among the towns of San Luis Obispo, California Valley, and Bakersfield, California. Participation is encouraged and will help determine the future management of the Carrizo Plain National Monument and the Bakersfield Field Office public lands. All public meetings will be announced through the local news media, newsletters, and the BLM web site (www.ca.blm.gov) at least 15 days prior to the event. Any notes generated and the list of attendees for each meeting will be available to the public and open for 30 days to any participant who wishes to clarify the views they expressed. In addition to public meetings, formal opportunities for public participation will be provided through comment upon publication of the draft Carrizo RMP, and Caliente RMP Plan Amendment/EA. In addition, written comments will be accepted throughout the entire planning process.

Background Information: On January 17, 2001, the President signed a proclamation creating the Carrizo Plain National Monument. The monument encompasses approximately 204,000 acres of public lands primarily in San Luis Obispo County, with smaller portions within Kern and Santa Barbara Counties, all in California. Located midway between the cities of Bakersfield and San Luis Obispo, the monument links Bittercreek National Wildlife Refuge to the southeast with privately conserved lands and the Los Padres National Forest to the northwest. The Caliente RMP was completed in 1997 and encompassed all BLM managed public lands within San Luis Obispo, Santa Barbara, Ventura, Kings, Tulare, and western Kern counties. Public involvement in preparation of the Caliente RMP was solicited through announcements in the Federal Register, the mailing of a notice to 1,300 people and organizations, six scoping meetings, the mailing of a draft plan to 1,000 interested publics, and 6 public open houses. The Carrizo Plain Natural Area Management Plan was completed between 1996 and 1999. This plan was jointly prepared and signed by The Nature Conservancy, California Department of Fish and Game, and BLM, following public involvement that included a mailing to 1,000 people and organizations, 7 public meetings, and an additional mailing to a list of 200 people and organizations before the final plan was compiled. Neither plan has been amended previously, and both continue to provide clear and broadly supported direction for public lands now within the Carrizo Plain National Monument.

Elaine Marquis-Brong,
Director, National Landscape Conservation System, Bureau of Land Management.

[FR Doc. 02-9593 Filed 4-24-02; 8:45 am]

BILLING CODE 4310-32-P